DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, and the United States Fish and Wildlife Service (USFWS).

SUMMARY: The FHWA, on behalf of Caltrans, is issuing this notice to announce actions taken by Caltrans, and USFWS, that are final within the meaning of 23 U.S.C. 139(l)(1). The actions relate to a proposed highway project on Interstate 15 from Cajalco Road, Post Mile (PM) 36.8 to State Route 60 (SR-60) PM 51.4 through the cities of Corona, Norco, Eastvale, and Jurupa Valley, and portions of incorporated Riverside County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before November 14, 2016. If the Federal law that authorizes judicial review of a claim provides a time period of less than 150 days for filing such claim, then that shorter time period still applies.

FOR FURTHER INFORMATION CONTACT: For Caltrans: James Shankel, Senior Environmental Planner, California Department of Transportation District 8, Division of Environmental Planning, 464 West 4th Street, 6th Floor, MS 827, San Bernardino, California, 92401-1400, during normal business hours from 8:00 a.m. to 5:00 p.m., telephone (909) 383-6379, or email James.Shankel@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans and USFWS have taken final agency actions subject to 23 U.S.C. 139(l)(1) by issuing licenses, permits, and approvals for the following highway project in the State of California: Construction of one or two tolled express lanes in each direction on I-15 in Riverside County between PM 36.8 and PM 51.4. Sign improvements would also be made to inform and guide users of the new tolled express lanes. Advanced signage is required to be posted at a minimum of two miles prior to the start of the tolled express lanes. The project limits for the signage extend from PM 34.7 in Riverside County to PM 1.3 in San Bernardino County. The Build Alternative would specifically provide one tolled express lane in each direction from Cajalco Road to Hidden Valley Parkway, provide two tolled express lanes in each direction from Hidden Valley Parkway northbound and Second Street southbound (Norco) to Cantu Galleano Ranch Road (Eastvale/Jurupa Valley), and construct one tolled express lane in each direction from Cantu Galleano Ranch Road (Eastvale/Jurupa Valley) to SR-60, with isolated outside widening at Riverside Avenue to maintain lane balance for the SR-60 West Bound loop connector.

The total length of the express lanes is approximately 14.6 miles. The purpose of the I-15 Express Lanes Project is to improve existing and future traffic operations and mainline travel times, expand travel choice, increase travel time reliability, and expand tolled express lane network. The lane improvements are located within Riverside County, California, and from south to north run through the cities of Corona, Norco, Eastvale, and Jurupa Valley and portions of unincorporated Riverside County.

The actions by the Federal agencies, and the laws under which such actions were taken, are described in the Environmental Assessment (EA) with a Finding of No Significant Impact (FONSI) for the project, approved on May 4, 2016, and in other documents in the project records. The EA/FONSI, and other project records are available by contacting Caltrans at the address provided above. This notice applies to all Federal agency decisions as of the issuance date of this notice and all laws under which such actions were taken, including but not limited to:

1. Council on Environmental Quality regulations;

2. National Environmental Policy Act (NEPA) (42 U.S.C. 4321 et seq.);

3. Federal Aid Highway Act of 1970;

4. Moving Ahead for Progress in the 21st Century Act (MAP-21, Pub. L. 112-141);

5. Clean Air Act Amendments of 1990;

6. Noise Control Act of 1979;

7. 23 CFR part 772 FHWA Noise Standards, Policies and Procedures;

8. Department of Transportation Act of 1966, Section 4(f);

9. Clean Water Act of 1977 and 1987;

10. Endangered Species Act of 1973;

11. Migratory Bird Treaty Act;

12. National Historic Preservation Act of 1966, as amended;

13. Historic Sites Act of 1935;

14. Executive Order 11990—Protection of Wetlands;

15. Executive Order 12898—Environmental Justice;

16. Executive Order 13112—Invasive Species;

17. Uniform Relocation Assistance and Real Property Acquisition Act of 1970;

(Catalog of Federal Domestic Assistance Program Number 20.205, Highway Planning and Construction. The regulations implementing Executive Order 12372 regarding intergovernmental consultation on Federal programs and activities apply to this program.)

Authority: 23 U.S.C. 139(l)(1)

Shawn E. Oliver,
Team Leader, Program Development, Federal Highway Administration, Sacramento, CA.

[FR Doc. 2016-14391 Filed 6-16-16; 8:45 am]

BILLING CODE 4910-RY-P